DEPARTMENT OF THE INTERIOR

Bureau of Indian Affairs

[212D0102DR/DS5A300000/DR.5A311.IA000118]

Osage County Oil and Gas Final Environmental Impact Statement, Osage County, Oklahoma

AGENCY: Bureau of Indian Affairs, Interior.

ACTION: Notice of availability.

SUMMARY: In accordance with the National Environmental Policy Act of 1969 (NEPA), as amended, the Bureau of Indian Affairs (BIA) has prepared the Osage County Oil and Gas Final Environmental Impact Statement (FEIS) and, by this notice, is announcing its publication. The FEIS is a programmatic analysis of the potential impacts that future oil and gas development may have on the surface estate and subsurface mineral estate (Osage Mineral Estate) in Osage County, Oklahoma.

DATES: The BIA will issue a Record of Decision (ROD) for the proposed action no earlier than 30 days from the date this Notice of Availability is published in the Federal Register.

ADDRESSES: The FEIS is available on the Osage Agency's website at: https://www.bia.gov/regional-offices/eastern-oklahoma/osage-agency/osage-oil-and-gas-eis. A paper copy of the FEIS is also available for examination at the BIA Osage Agency, 813 Grandview Avenue, Pawhuska, OK 74056.

FOR FURTHER INFORMATION CONTACT: Mr. Mosby Halterman, Regional Environmental Scientist, telephone: 918-781-4660; email: mosby.halterman@bia.gov; address: BIA Eastern Oklahoma Regional Office, PO Box 8002, Muskogee, OK 74402.

SUPPLEMENTARY INFORMATION: The Osage Allotment Act of 1906 (1906 Act), as amended, reserved all rights to the subsurface mineral estate underlying Osage County, Oklahoma (Osage Mineral Estate) to the Osage Nation. In accordance with the 1906 Act, the Osage Mineral Estate is held in trust by the United States for the benefit of the Osage Nation. All oil and gas leases, applications for permits to drill, and other site-specific permit applications in Osage County are approved under the authority of the 1906 Act, as amended, and 25 Code of Federal Regulations (CFR), part 226, Leasing of Osage Reservation Lands for Oil and Gas Mining.

The purpose of the BIA's action is to administer leasing and development of the Osage Mineral Estate in the best interest of the Osage Nation, in accordance with the 1906 Act, as amended, balancing resource conservation and maximization of oil and gas production in the long term. The BIA is required, under more generally applicable statutes, to include in the best interest calculation the protection of the environment in Osage County to enhance conservation of resources and protection of the health and safety of the Osage people. Based on these considerations, the BIA's action promotes the maximization of oil and gas production from the Osage Mineral Estate in a manner that is economic, efficient, and safe; prevents pollution; and is consistent with the mandates of Federal law.

The FEIS analyzes the following four alternatives for managing oil and gas development in Osage County:

Alternative 1, No Action Alternative.

Alternative 2, Emphasize Oil and Gas Development. Minimize the number of permit Conditions of Approval (COAs) to allow producers wider latitude in determining the methods by which they will comply with applicable laws and regulations, such as the Endangered Species Act of 1973 and Clean Water Act of 1972.

Alternative 3, Hybrid Development. A hybrid approach, by applying additional protective COAs in sections with low levels of historical oil and gas development minimizing the number of COAs in sections with high levels of historical oil and gas development. The BIA would not approve permits for new ground-disturbing oil and gas development activities in certain sensitive areas.

Alternative 4, Enhanced Resource Protection. Apply additional protective COAs in all areas and implement well-spacing requirements. The BIA would not approve permits for new ground-disturbing oil and gas development activities in certain sensitive areas.

The alternatives represent the range of reasonable actions that could be taken to satisfy the purpose of and need for the BIA's action. All alternatives incorporate measures necessary to address impacts on air quality, water resources, cultural resources, public health and safety, threatened and endangered species, and socioeconomics among other things. The Osage Draft EIS (DEIS), published on November 22, 2019, did not identify a preferred alternative because the BIA did not have one at that time. The BIA identified Alternative 3, Hybrid Development, as the preferred alternative in the FEIS.

Under all alternatives, the FEIS would serve as the NEPA review for the approval of leases and workover permits that do not require new ground disturbance. Site-specific environmental assessments (EAs) would be required for drilling and workover permits involving new ground disturbance but would be tiered to the analysis in the FEIS. Additional site-specific terms and conditions could be required prior to authorization of future oil and gas development activities.

Authority: This notice of availability is published in accordance with Section 1503.1 of the Council on Environmental Quality regulations (40 CFR 1500 et seq.) and the Department of the Interior Regulations (43 CFR part 46) implementing the procedural requirements of NEPA (42 U.S.C. 4321 et seq.), and in accordance with the authority delegated to the Assistant Secretary, Indian Affairs, in Part 209 of the Departmental Manual.

Tara Sweeney,
Assistant Secretary—Indian Affairs.

[FR Doc. 2020-22783 Filed 10-15-20; 8:45 am]

BILLING CODE 4337-15-P